SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: October 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Seneca Resources Company, LLC; Pad ID: Barbine 292; ABR-20100614.R2; Charleston Township, Tioga County, Pa.; Consumptive Use of Up to 4.0000 mgd; Approval Date: October 1, 2020.

2. Repsol Oil & Gas USA, LLC; Pad ID: SHEDDEN (01 075) L; ABR-201007004.R2; Granville Township, Bradford County, Pa.; Consumptive Use of Up to 6.0000 mgd; Approval Date: October 1, 2020.

3. LPR Energy, LLC; Pad ID: Lightner East Drilling Pad #1; ABR-201009087.R2; Juniata Township, Blair County, Pa.; Consumptive Use of Up to 2.0000 mgd; Approval Date: October 2, 2020.

4. Seneca Resources, LLC; Pad ID: Covington Pad L; ABR-201008065.R2; Covington Township, Tioga County, Pa.; Consumptive Use of Up to 4.0000 mgd; Approval Date: October 14, 2020.

5. Seneca Resources, LLC; Pad ID: COP Pad C; ABR-201008027.R2; Lawrence Township, Clearfield County, Pa.; Consumptive Use of Up to 4.9990 mgd; Approval Date: October 14, 2020.

6. Seneca Resources, LLC; Pad ID: Doan 893; ABR-20100670.R2; Deerfield Township, Tioga County, Pa.; Consumptive Use of Up to 3.0000 mgd; Approval Date: October 14, 2020.

7. Seneca Resources, LLC; Pad ID: Anthony 564; ABR-201006111.R2; Delmar Township, Tioga County, Pa.; Consumptive Use of Up to 3.0000 mgd; Approval Date: October 14, 2020.

8. Seneca Resources, LLC; Pad ID: Hauswirth 516; ABR-20100688.R2; Richmond Township, Tioga County, Pa.; Consumptive Use of Up to 4.0000 mgd; Approval Date: October 14, 2020.

9. Seneca Resources, LLC; Pad ID: Matz 824; ABR-201007010.R2; Chatham Township, Tioga County, Pa.; Consumptive Use of Up to 4.0000 mgd; Approval Date: October 14, 2020.

10. Seneca Resources, LLC; Pad ID: Frost 573; ABR-201007013.R2; Covington Township, Tioga County, Pa.; Consumptive Use of Up to 4.0000 mgd; Approval Date: October 14, 2020.

11. Seneca Resources, LLC; Pad ID: Sorensen 876; ABR-201007021.R2; Osceola Township, Tioga County, Pa.; Consumptive Use of Up to 4.0000 mgd; Approval Date: October 14, 2020.

12. Chesapeake Appalachia, L.L.C.; Pad ID: Hopson; ABR-201010004.R2; Asylum Township, Bradford County, Pa.; Consumptive Use of Up to 7.50000 mgd; Approval Date: October 14, 2020.

13. Chesapeake Appalachia, L.L.C.; Pad ID: Yvonne; ABR-201010015.R2; Rush Township, Susquehanna County, Pa.; Consumptive Use of Up to 7.50000 mgd; Approval Date: October 14, 2020.

14. Diversified Production, LLC; Pad ID: Phoenix E; ABR-201008130.R2; Duncan Township, Tioga County, Pa.; Consumptive Use of Up to 3.0000 mgd; Approval Date: October 14, 2020.

15. Chief Oil & Gas, LLC; Pad ID: Warburton North Drilling Pad; ABR-201510003.R1; Forks Township, Sullivan County, Pa.; Consumptive Use of Up to 2.5000 mgd; Approval Date: October 14, 2020.

16. Cabot Oil & Gas Corporation; Pad ID: ArnoneJ P1; ABR-201507004.R1; Brooklyn Township, Susquehanna County, Pa.; Consumptive Use of Up to 5.0000 mgd; Approval Date: October 14, 2020.

17. Cabot Oil & Gas Corporation; Pad ID: BistisM P1; ABR-201507005.R1; Lathrop Township, Susquehanna County, Pa.; Consumptive Use of Up to 5.0000 mgd; Approval Date: October 14, 2020.

18. Eclipse Resources-PA, LP; Pad ID: Abplanalp; ABR-201510001.R1; Westfield Township, Tioga County, Pa.; Consumptive Use of Up to 5.0000 mgd; Approval Date: October 14, 2020.

19. Eclipse Resources-PA, LP; Pad ID: Painter; ABR-201510002.R1; Westfield Township, Tioga County, Pa.; Consumptive Use of Up to 5.0000 mgd; Approval Date: October 14, 2020.

20. SWN Production Company, LLC; Pad ID: Ball; ABR-201007060.R2; Stevens Township, Bradford County, Pa.; Consumptive Use of Up to 4.9990 mgd; Approval Date: October 28, 2020.

21. Repsol Oil & Gas USA, LLC; Pad ID: FEUSNER (03 044) J; ABR-201007094.R2; Columbia Township, Bradford County, Pa.; Consumptive Use of Up to 6.0000 mgd; Approval Date: October 28, 2020.

22. Repsol Oil & Gas USA, LLC; Pad ID: WARNER VALLEY FARM LLC (05 002); ABR-201007130.R2; Pike Township, Bradford County, Pa.; Consumptive Use of Up to 6.0000 mgd; Approval Date: October 28, 2020.

23. Repsol Oil & Gas USA, LLC; Pad ID: WATSON (03 051) B; ABR-201007084.R2; Columbia Township, Bradford County, Pa.; Consumptive Use of Up to 6.0000 mgd; Approval Date: October 28, 2020.

24. Cabot Oil & Gas Corporation; Pad ID: LambertR P1; ABR-201507006.R1; Gibson Township, Susquehanna County, Pa.; Consumptive Use of Up to 5.0000 mgd; Approval Date: October 28, 2020.

25. Cabot Oil & Gas Corporation; Pad ID: AdamsJ P1; ABR-201007121.R2; Harford Township, Susquehanna County, Pa.; Consumptive Use of Up to 5.0000 mgd; Approval Date: October 28, 2020.

26. Cabot Oil & Gas Corporation; Pad ID: DavisG P1; ABR-201007120.R2; Gibson Township, Susquehanna County, Pa.; Consumptive Use of Up to 5.0000 mgd; Approval Date: October 28, 2020.

27. Seneca Resources, LLC; Pad ID: Wood 874; ABR-201007069.R2; Deerfield Township, Tioga County, Pa.; Consumptive Use of Up to 4.0000 mgd; Approval Date: October 28, 2020.

28. Seneca Resources, LLC; Pad ID: Hamblin 860; ABR-201007117.R2; Middlebury Township, Tioga County, Pa.; Consumptive Use of Up to 4.0000 mgd; Approval Date: October 28, 2020.

29. Frontier Natural Resources, Inc.; Pad ID: Winner 4H; ABR-201009094.R2; West Keating Township, Clinton County, Pa.; Consumptive Use of Up to 4.0000 mgd; Approval Date: October 28, 2020.

30. SWN Production Company, LLC; Pad ID: NR-19-Walker Diehl; ABR-201507003.R1; Oakland Township, Susquehanna County, Pa.; Consumptive Use of Up to 4.9990 mgd; Approval Date: October 28, 2020.

31. Cabot Oil & Gas Corporation; Pad ID: PlonskiJ P1; Brooklyn Township, Susquehanna County, Pa.; Consumptive Use of Up to 5.0000 mgd; Approval Date: October 28, 2020.

32. Seneca Resources Company, LLC; Pad ID: Gee 848V; ABR-201007093.R2; Middlebury Township, Tioga County, Pa.; Consumptive Use of Up to 4.0000 mgd; Approval Date: October 28, 2020.

33. ARD Operating, LLC; Pad ID: COP Tr 285 Pad D; ABR-201008013.R2; Chapman Township, Clinton County, Pa.; Consumptive Use of Up to 4.0000 mgd; Approval Date: October 28, 2020.

34. Repsol Oil & Gas USA, LLC; Pad ID: YOUNG (05 080); ABR-201007080.R2; Warren Township, Bradford County, Pa.; Consumptive Use of Up to 6.0000 mgd; Approval Date: October 30, 2020.

35. EOG Resources, Inc.; Pad ID: KINGSLEY 2H; ABR-20100692.R2; Springfield Township, Bradford County, Pa.; Consumptive Use of Up to 3.0000 mgd; Approval Date: October 30, 2020.

36. EOG Resources, Inc.; Pad ID: KINGSLEY 3H; ABR-20100698.R2; Springfield Township, Bradford County, Pa.; Consumptive Use of Up to 3.0000 mgd; Approval Date: October 30, 2020.

37. Repsol Oil & Gas USA, LLC; Pad ID: CUMMINGS LUMBER (01 081); ABR-201007088.R2; Troy Township, Bradford County, Pa.; Consumptive Use of Up to 6.0000 mgd; Approval Date: October 30, 2020.

38. ARD Operating, LLC; Pad ID: COP Tr 356 Pad H; ABR-201008020.R2; Cummings Township, Lycoming County, Pa.; Consumptive Use of Up to 4.0000 mgd; Approval Date: October 30, 2020.

39. ARD Operating, LLC; Pad ID: COP Tr 290 Pad B; ABR-201008029.R2; McHenry Township, Lycoming County, Pa.; Consumptive Use of Up to 4.0000 mgd; Approval Date: October 30, 2020.

40. ARD Operating, LLC; Pad ID: Brian K. Frymire Pad A; ABR-201008056.R2; Cascade Township, Lycoming County, Pa.; Consumptive Use of Up to 4.0000 mgd; Approval Date: October 30, 2020.

41. Seneca Resources Company, LLC; Pad ID: Clark 392; ABR-201008004.R2; Delmar Township, Tioga County, Pa.; Consumptive Use of Up to 4.0000 mgd; Approval Date: October 30, 2020.

42. Seneca Resources Company, LLC; Pad ID: Fish 301; ABR-201008034.R2; Richmond Township, Tioga County, Pa.; Consumptive Use of Up to 4.0000 mgd; Approval Date: October 30, 2020.

43. EXCO Resources (PA), LLC; Pad ID: COP Tract 706 (Pad B); ABR-201008059.R2; Burnside Township, Centre County, Pa.; Consumptive Use of Up to 8.0000 mgd; Approval Date: October 30, 2020.

44. Chief Oil & Gas, LLC; Pad ID: SGL-12 L SOUTH UNIT PAD; ABR-202010001; Leroy Township, Bradford County, Pa.; Consumptive Use of Up to 2.5000 mgd; Approval Date: October 30, 2020

Approval By Rule—Revoked Under 18 CFR 806.22(f)

1. Seneca Resources Company, LLC, Pad ID: Wolfinger Pad A, ABR-201008064.R1; City of Saint Mary's, Elk County; and Shippen Township, Cameron County; Pa.; Revocation Date: May 21, 2020.

Authority: Pub. L. 91-575, 84 Stat. 1509 et seq., 18 CFR parts 806, 807, and 808.

Dated: December 15, 2020.
Jason E. Oyler,
General Counsel and Secretary to the Commission.

[FR Doc. 2020-27957 Filed 12-17-20; 8:45 am]

BILLING CODE 7040-01-P